DEPARTMENT OF DEFENSE

Department of the Navy

Notice of Intent To Grant Exclusive Patent Licenses to BTG International, Inc.

AGENCY: Department of the Navy, DOD.

ACTION: Notice.

SUMMARY: The Department of the Navy hereby gives notice of prospective licenses to BTG International Inc. to the Government-owned inventions described in:

U.S. Patent No. 5,932,006 entitled, “BaF2/GaAs Electronic Components”, date issued: August 3, 1999.

U.S. Patent Application Serial No. 09/197,440 entitled, “Gallium Arsenide Semiconductor Devices Fabricated with Insulator Layer”, filing date: November 23, 1998, Navy Case No. 79412.

U.S. Patent Application Serial No. 09/563,740 entitled, “Electronic Devices With Diffusion Barrier and Process for Making Same”, filing date: May 3, 2000, Navy Case No. 82111.

U.S. Patent Application Serial No. 09/631,121 entitled, “Gallium Arsenide Semiconductor Devices Fabricated With Insulator Layer”, filing date: August 2, 2000, Navy Case No. 82528.

DATES: Anyone wishing to object to the grant of this license must file written objections along with supporting evidence, if any, not later than January 16, 2001.

ADDRESSES: Written objections are to be filed with the Office of Patent Counsel, Naval Surface Warfare Center, Dahlgren Laboratory, CD222, 17320 Dahlgren Road, VA 22448-5100, telephone (540) 653-8061.

Authority: 35 U.S.C. 207, 37 CFR Part 404.

Dated: November 3, 2000.
J.L. Roth,
Lieutenant Commander, Judge Advocate General's Corps, U.S. Navy, Federal Register Liaison Officer.

[FR Doc. 00-29389 Filed 11-15-00; 8:45 am]

BILLING CODE 3810-FF-P